FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Written Security Program for State Member Banks (FR 4004; OMB No. 7100-0112).

FOR FURTHER INFORMATION CONTACT: Federal Reserve Board Clearance Officer—Nuha Elmaghrabi—Office of the Chief Data Officer, Board of Governors of the Federal Reserve System, Washington, DC 20551, (202) 452-3829.

Office of Management and Budget (OMB) Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, OMB delegated to the Board authority under the Paperwork Reduction Act (PRA) to approve and assign OMB control numbers to collection of information requests and requirements conducted or sponsored by the Board. Board-approved collections of information are incorporated into the official OMB inventory of currently approved collections of information. Copies of the PRA Submission, supporting statements and approved collection of information instrument(s) are placed into OMB's public docket files. The Board may not conduct or sponsor, and the respondent is not required to respond to, an information collection that has been extended, revised, or implemented on or after October 1, 1995, unless it displays a currently valid OMB control number.

Final Approval Under OMB Delegated Authority of the Extension for Three Years, Without Revision, of the Following Information Collection

Report title: Written Security Program for State Member Banks.

Agency form number: FR 4004.

OMB control number: 7100-0112.

Frequency: On occasion.

Respondents: State member banks.

Estimated number of respondents: 26.

Estimated average hours per response: 1 hour.

Estimated annual burden hours: 26.

General description of report: This information collection arises from a recordkeeping requirement contained in section 208.61 of the Board's Regulation H, which requires each state member bank to develop and maintain a written security program for the bank's main office and branches within 180 days of becoming a member of the Federal Reserve System. There is no formal reporting form for this collection of information (the FR 4004 designation is for internal purposes only), and the information is not submitted to the Federal Reserve System.

Legal authorization and confidentiality: The FR 4004 recordkeeping requirement is authorized by section 3 of the Bank Protection Act of 1968, which requires federal banking agencies to issue rules establishing minimum standards for banks with respect to the installation, maintenance, and operation of security devices and procedures to discourage robberies, burglaries, and larcenies and to assist in the identification and apprehension of persons who commit such acts.¹ The FR 4004 is mandatory.

¹ 12 U.S.C. 1882(a).

Because there is no reporting requirement associated with this recordkeeping requirement, the issue of confidentiality does not normally arise. If a bank's written security program were retained during the course of an examination, it may be exempt from disclosure under exemption 8 of the Freedom of Information Act (FOIA), which protects bank examination material.² In addition, the records may also be exempt from disclosure under exemption 4 of the FOIA, which protects from disclosure “trade secrets and commercial or financial information obtained from a person [that is] privileged or confidential.” ³

² 5 U.S.C. 552(b)(8).

³ 12 U.S.C. 552(b)(4).

Current actions: On April 19, 2019, the Board published a notice in the Federal Register (84 FR 16492) requesting public comment for 60 days on the extension, without revision, of the FR 4004. The comment period for this notice expired on June 18, 2019. The Board did not receive any comments.

Board of Governors of the Federal Reserve System, August 7, 2019.
Michele Taylor Fennell,
Assistant Secretary of the Board.

[FR Doc. 2019-17260 Filed 8-12-19; 8:45 am]

BILLING CODE 6210-01-P